DEPARTMENT OF VETERANS AFFAIRS

Privacy Act of 1974: Computer Matching Program

AGENCY: Department of Veterans Affairs (VA).

ACTION: Notice of new computer matching program.

SUMMARY: Pursuant to the Privacy Act of 1974, as amended, and the Office of Management and Budget (OMB) Guidelines on the Conduct of Matching Programs, notice is hereby given that the Department of Veterans Affairs (VA) intends to conduct a computer matching program with the Social Security Administration (SSA). Data from the proposed match will be used to verify the net earnings from self-employment and wages of nonservice-connected veterans, and those veterans who are zero percent service-connected (noncompensable), whose eligibility for VA medical care is based on their inability to defray the cost of medical care. These veterans supply household income information that includes their spouses and dependents at the time of application for VA health care benefits.

DATES: Comments on this matching program must be received no later than 30 days after publication of this Notice. If no public comment is received during the period allowed for comment or unless otherwise published in the Federal Register by VA, the new system will become effective November 28, 2020 and expires 18 months after its effective date. This match will not continue past the legislative authorized date to obtain this information.

ADDRESSES: Written comments may be submitted through www.Regulations.gov; by mail or hand-delivery to the Director, Regulations Management (00REG), Department of Veterans Affairs, 810 Vermont Ave. NW, Room 1068, Washington, DC 20420; or by fax to (202) 273-9026 (not a toll-free number). Comments should indicate that they are submitted in response to Matching Program SSA/VA. Copies of comments received will be available for public inspection in the Office of Regulation Policy and Management, Room 1063B, between the hours of 8:00 a.m. and 4:30 p.m. Monday through Friday (except holidays). Please call (202) 461-4902 for an appointment. (This is not a toll-free number.) In addition, during the comment period, comments may be viewed online through the Federal Docket Management System (FDMS) at www.Regulations.gov.

FOR FURTHER INFORMATION CONTACT: Dionne Dent-Lockett, Director, Health Eligibility Center, VHA Member Services (404) 828-5302 (this is not a toll-free number).

SUPPLEMENTARY INFORMATION: The Department of Veterans Affairs has statutory authorization under 38 U.S.C. 5317, 38 U.S.C. 5106, 26 U.S.C. 6103(l)(7)(D)(viii) and 5 U.S.C. 552a to establish matching agreements and request and use income information from other agencies for purposes of verification of income for determining eligibility for benefits. 38 U.S.C. 1710(a)(2)(G), 1710(a)(3), and 1710(b) identify those veterans whose basic eligibility for medical care benefits is dependent upon their financial status. Eligibility for nonservice-connected and zero percent noncompensable service-connected veterans is determined based on the veteran's inability to defray the expenses for necessary care as defined in 38 U.S.C. 1722. This determination can affect their responsibility to participate in the cost of their care through copayments and their assignment to an enrollment priority group. The goal of this match is to obtain SSA earned income information data needed for the income verification process. The VA records involved in the match are “Income Verification Records—VA” (89VA10NB). The SSA records are from the Master Files of Social Security Number (SSN) Holders and SSN Applications (Enumeration System). A copy of this notice has been sent to both Houses of Congress and OMB.

Participating Agencies: Department of Veterans Affairs/Veteran Health Administration and Social Security Administration.

Authority for Conducting The Matching Program: This agreement is executed under the Privacy Act of 1974, 5 United States Code (U.S.C.) § 552a, as amended by the Computer Matching and Privacy Protection Act of 1988, and the regulations and guidance promulgated thereunder.

Legal authority for the disclosures under this agreement is 38 U.S.C. 5106 and 5317, and 26 U.S.C. 6103(l)(7)(D)(viii). Under 38 U.S.C. 1710, VA/VHA has a statutory obligation to collect income information from certain applicants for medical care and to use that income data to determine the appropriate eligibility category for the applicant's medical care. 26 U.S.C. 6103(l)(7) authorizes the disclosure of tax return information with respect to net earnings from self-employment and wages, as defined by relevant sections of the Internal Revenue Code (IRC), to Federal, state, and local agencies administering certain benefit programs under Title 38 of the U.S.C.

Purpose(s): To identify and verify those veterans whose basic eligibility for medical care benefits is dependent upon their financial status and ensure they are in the correct Priority Group and copayment status.

Categories of Individuals: Nonservice-connected and zero percent noncompensable service-connected veterans who are in Priority Group 5 based on their inability to defray the expenses for necessary care as defined in 38 U.S.C. 1722.

Categories of Records: The VA records involved in the match are “Income Verification Records—VA” (89VA10NB). The SSA records are from the Master Files of Social Security Number (SSN) Holders and SSN Applications (Enumeration System). The SSA will provide return information with respect to earned income from the Earnings Recording and Self-Employment Income System (commonly referred to as the MEF). SSA will provide VA/VHA with the following tax return information from the MEF for each individual with a verified SSN for whom VA/VHA requests information: Employer identification numbers (EIN), earnings report type, employer name and address, year of earnings, wage amounts from Form W-2, and earnings amounts from self-employment.

System(s) of Records: VHA's System of Records entitled “Income Verification Records—VA” (89VA10NB) (Routine use nineteen (19)), as published at 73 FR 26192 (May 8, 2008), and updated at 78 FR 76897 (December 19, 2013)). SSA will extract and disclose the necessary tax return information from the Earnings Recording and Self-Employment Income System, (commonly referred to as the MEF), 60-0059, last fully published at 71 FR 1819 (January 11, 2006) and updated on July 5, 2013 (78 Fed. Reg. 40542), and November 1, 2018 (83 FR 54969).

Signing Authority

The Senior Agency Official for Privacy, or designee, approved this document and authorized the undersigned to sign and submit the document to the Office of the Federal Register for publication electronically as an official document of the Department of Veterans Affairs. Joseph S. Stenaka, Executive Director for Information Security Operations and Chief Privacy Officer, approved this document on October 13, 2020 for publication.

Dated: October 22, 2020.
Amy L. Rose,
Program Analyst, VA Privacy Service, Office of Information Security, Office of Information and Technology, Department of Veterans Affairs.

[FR Doc. 2020-23788 Filed 10-27-20; 8:45 am]

BILLING CODE P